ENVIRONMENTAL PROTECTION AGENCY

[FRL-9991-87-OP]

National Environmental Justice Advisory Council; Notification of Public Meeting With Teleconference Option and Public Comment

AGENCY: Environmental Protection Agency (EPA).

ACTION: Notification of public meeting.

SUMMARY: Pursuant to the Federal Advisory Committee Act (FACA), the U.S. Environmental Protection Agency (EPA) hereby provides notice that the National Environmental Justice Advisory Council (NEJAC) will meet on the dates and times described below. All meetings are open to the public. Members of the public are encouraged to provide comments relevant to the specific issues being considered by the NEJAC. For additional information about registering to attend the meeting or to provide public comment, please see “REGISTRATION” under SUPPLEMENTARY INFORMATION. Due to a limited space, seating at the NEJAC meeting will be on a first-come, first served basis. Pre-registration is highly suggested.

DATES: The NEJAC will convene a public meeting with a teleconference option beginning on Tuesday, April 30, 2019, starting at 6 p.m., Eastern Time. The NEJAC meeting will continue May 1-2, 2019, from 9 a.m. until 5 p.m., Eastern Time. The meeting discussion will focus on several topics including, but not limited to, EPA program offices providing updates on their efforts to integrate environmental justice into their programs and the discussion and deliberation of a charge to provide recommendations on the reuse and revitalization of Superfund and other contaminated sites. One public comment period relevant to the specific issues being considered by the NEJAC (see SUPPLEMENTARY INFORMATION) is scheduled for Tuesday, April 30, 2019, starting at 6 p.m., Eastern Time. Members of the public who wish to participate during the public comment period are highly encouraged to pre-register by 11:59 p.m., Eastern Time on Sunday, April 21, 2019.

ADDRESSES: The NEJAC meeting will be held at the Hyatt Regency Bethesda, 7400 Wisconsin Ave., Bethesda, MD 20814.

FOR FURTHER INFORMATION CONTACT: Questions or correspondence concerning the public meeting should be directed to Karen L. Martin, U.S. Environmental Protection Agency, by mail at 1200 Pennsylvania Avenue NW (MC2202A), Washington, DC 20460, by telephone at 202-564-0203, or email at nejac@epa.gov. Additional information about the NEJAC is available at https://www.epa.gov/environmentaljustice/national-environmental-justice-advisory-council.

SUPPLEMENTARY INFORMATION: The Charter of the NEJAC states that the advisory committee “will provide independent advice and recommendations to the Administrator about broad, crosscutting issues related to environmental justice. The NEJAC's efforts will include evaluation of a broad range of strategic, scientific, technological, regulatory, community engagement and economic issues related to environmental justice.”

Registration: Registration for the April 30-May 02, 2019, public meeting will be processed at https://nejac-public-meeting-april-2019.eventbrite.com. Pre-registration is highly suggested. Registration for the April 30-May 02, 2019, public meeting teleconference option will be processed at https://nejac-public-teleconference-meeting-april-2019.eventbrite.com. Pre-registration is required. Registration for the April 30-May 2, 2019, meeting closes at 11:59 p.m., Eastern Time on Sunday, April 21, 2019. The deadline to sign up to speak during the public comment period, or to submit written public comments, is 11:59 p.m., Eastern Time on Sunday, April 21, 2019. When registering, please provide your name, organization, city and state, email address, and telephone number for follow up. Please also indicate whether you would like to provide public comment during the meeting, and whether you are submitting written comments before the Sunday, April 21, 2019, deadline.

A. Public Comment

Individuals or groups making remarks during the public comment period will be limited to seven (7) minutes. To accommodate the number of people who want to address the NEJAC, only one representative of a particular community, organization, or group will be allowed to speak. Written comments can also be submitted for the record. The suggested format for individuals providing public comments is as follows: Name of speaker; name of organization/community; city and state; and email address; brief description of the concern, and what you want the NEJAC to advise EPA to do. Written comments received by registration deadline, will be included in the materials distributed to the NEJAC prior to the teleconference. Written comments received after that time will be provided to the NEJAC as time allows. All written comments should be sent to Karen L. Martin, EPA, via email at nejac@epa.gov.

B. Information About Services for Individuals With Disabilities or Requiring English Language Translation Assistance

For information about access or services for individuals requiring assistance, please contact Karen L. Martin, at (202) 564-0203 or via email at nejac@epa.gov. To request special accommodations for a disability or other assistance, please submit your request at least fourteen (14) working days prior to the meeting, to give EPA sufficient time to process your request. All requests should be sent to the address, email, or phone number listed in the FOR FURTHER INFORMATION CONTACT section.

Dated: March 26, 2019.
Matthew Tejada,
Director for the Office of Environmental Justice.

[FR Doc. 2019-07568 Filed 4-15-19; 8:45 am]

BILLING CODE 6560-50-P